DEPARTMENT OF VETERANS AFFAIRS

Privacy Act of 1974; Computer Matching Program

AGENCY: Department of Veterans Affairs.

ACTION: Notice of Computer Matching Program.

SUMMARY: Pursuant to 5 U.S.C. section 552a, the Privacy Act of 1974, as amended, and the Office of Management and Budget (OMB) Guidelines on the Conduct of Matching Programs, notice is hereby given that the Department of Veterans Affairs (VA) intends to conduct a computer matching program with the Internal Revenue Service (IRS). Data from the proposed match will be utilized to verify the unearned income (i.e., interest, dividends, etc.) of nonservice-connected veterans, and those veterans who are zero percent service-connected (noncompensable), whose eligibility for VA medical care is based on their inability to defray the cost of medical care. These veterans supply household income information that includes their spouses and dependents at the time of application for VA health care benefits.

EFFECTIVE DATE: This match will start no sooner than 30 days after publication in the Federal Register, unless comments dictate otherwise.

ADDRESSES: Interested individuals may submit written comments to the Director, Office of Regulations Management (02D), Department of Veterans Affairs, 810 Vermont Avenue NW., Room 1154, Washington, DC 20420. All written comments will be available for public inspection at the above address in the Office of Regulations Management, Room 1158, between 8 a.m. and 4:30 p.m., Monday through Friday, except holidays.

FOR FURTHER INFORMATION CONTACT: Kathleen E. Watkins, Assistant Director, Income Verification Division, Health Eligibility Center, (404) 235-1340.

SUPPLEMENTARY INFORMATION: The Department of Veterans Affairs has a statutory authorization under 38 U.S.C. 5317, 38 U.S.C. 5106, 26 U.S.C. 6103 (1)(7)(D)(viii) and 5 U.S.C. 552a to establish matching agreements and request and use income information from other agencies for purposes of verification of income for determining eligibility for benefits. 38 U.S.C. 1710 (a)(2) (G), identifies those veterans whose basic eligibility for medical care benefits is dependent upon their financial status. Eligibility for nonservice-connected and zero percent noncompensable service-connected veterans is determined based on the veteran's inability to defray the expenses for necessary care as defined in 38 U.S.C. 1722. This determination can impact their responsibility to participate in the cost of their care through copayments and their assignment to an enrollment priority group.

The goal of this match is to obtain IRS unearned income information data needed for the income verification process. The VA records involved in the match are “Healthcare Eligibility Records” (89VA19). The IRS records are from the Wage and Information Returns (IRP) Master File, Privacy Act System, Treasury IRS 22.061. A copy of this notice has been sent to both Houses of Congress and OMB.

This matching agreement expires June 30, 2003. The matches will not continue past the legislative authorized date to obtain this information.

Approved: November 4, 2002.
Anthony J. Principi,
Secretary of Veterans Affairs.

[FR Doc. 02-29375 Filed 11-19-02; 8:45 am]

BILLING CODE 8320-01-P